DEPARTMENT OF VETERANS AFFAIRS

[OMB Control No. 2900-0138]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before September 29, 2004.

FOR FURTHER INFORMATION CONTACT: Denise McLamb, Records Management Service (005E3), Department of Veterans Affairs, 810 Vermont Avenue, NW., Washington, DC 20420, (202) 273-8030, fax (202) 273-5981 or e-mail denise.mclamb@mail.va.gov. Please refer to “OMB Control No. 2900-0138.” Send comments and recommendations concerning any aspect of the information collection to VA's OMB Desk Officer, OMB Human Resources and Housing Branch, New Executive Office Building, Room 10235, Washington, DC 20503 (202) 395-7316. Please refer to “OMB Control No. 2900-0138” in any correspondence.

SUPPLEMENTARY INFORMATION: Title: Request for Details of Expenses, VA Form 21-8049.

OMB Control Number: 2900-0138.

Type of Review: Extension of a currently approved collection.

Abstract: VA Form 21-8049 is used to gather the necessary information to determine the amounts of any deductible expenses paid by the claimant and/or commercial life insurance received in order to adjust the annual income. Pension is an income-based program, and the payable rate depends on annual income. Without this information, VA would be unable to authorize pension benefits.

An agency may not conduct or sponsor, and a person is not required to respond to a collection of information unless it displays a currently valid OMB control number. The Federal Register Notice with a 60-day comment period soliciting comments on this collection of information was published on June 8, 2004, at pages 32098-32099.

Affected Public: Individuals or households.

Estimated Annual Burden: 5,700 hours.

Estimated Average Burden per Respondent: 15 minutes.

Frequency of Response: One-time.

Estimated Number of Respondents: 22,800.

By direction of the Secretary.
Dated: August 17, 2004.
Loise Russell,
Director, Records Management Service.

[FR Doc. 04-19685 Filed 8-27-04; 8:45 am]

BILLING CODE 8320-01-P